DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before January 27, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: George F. Triebsch, Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2013-052-C.

Petitioner: Rosebud Mining Company, P.O. Box 1025, Northern Cambria, Pennsylvania 15714.

Mine: Brush Valley Mine, MSHA I.D. No. 36-09437, located in Indiana County, Pennsylvania.

Regulation Affected: 30 CFR 75.503 (Permissible electric face equipment; maintenance), (18.35(a)(5)(i) (Portable (trailing) cables and cords)).

Modification Request: The petitioner requests a modification of the existing standard to permit the use of 480-volt trailing cables with a maximum length of 1,200 feet when No. 2 American Wire Gauge (AWG) cable is used and 480-volt trailing cables with a maximum length of 950 feet when No. 4 AWG cable is used on roof bolters. The petitioner states that:

(1) The maximum length for the trailing cable for the 480-volt roof bolters will be 1,200 feet when No. 2 AWG cable is being used. The maximum length of 480-volt trailing cable will be 950 feet when No. 4 AWG cable is being used.

(2) The trailing cable for the 480-volt bolters will not be smaller than No. 4 AWG cable.

(3) All circuit breakers used to protect the No. 2 AWG trailing cable and No. 4 AWG trailing cable exceeding 700 feet in length will have instantaneous trip units calibrated to trip at 500 amperes. The trip setting of these circuit breakers will be sealed to ensure that the settings on these breakers cannot be changed, and these breakers will have permanent, legible labels. Each label will identify the circuit breaker as being suitable for protecting the cables.

(4) Replacement circuit breakers and/or instantaneous trip units used to protect No. 2 or No. 4 AWG trailing cable will be calibrated to trip at 500 amperes and will be sealed.

(5) All components that provide short-circuit protection will have a sufficient interruption rating in accordance with the maximum calculated fault currents available.

(6) During each production day, the trailing cables and circuit breakers will be examined in accordance with all 30 CFR provisions.

(7) Permanent warning labels will be installed and maintained on the load center to identify the location of each short-circuit protection device. These labels will warn miners not to change or alter the settings of these devices.

(8) If the affected trailing cables are damaged in any way during the shift, the cable will be deenergized and repairs made.

(9) The petitioner's alternative method will not be implemented until all miners who have been designated to operate the bolters or any other person designated to examine the trailing cables or trip settings on the circuit breakers have received proper training as to the performance of their duties.

(10) Within 60 days after this proposed decision and order becomes final, the proposed revisions for the petitioner's approved 30 CFR part 48 training plan will be submitted to the District Manager. The training plan will include the following:

(a) The hazards of setting the short-circuit device(s) too high to adequately protect the trailing cables.

(b) How to verify that the circuit interrupting device(s) protecting the trailing cable(s) are properly set and maintained.

(c) Mining methods and operating procedures for protecting the trailing cables against damage.

(d) Proper procedures for examining the trailing cables to ensure safe operating condition by visual inspection of the entire cable, observing the insulation and the integrity of the splices, and examining nicks and abrasions.

The petitioner further states that procedures specified in 30 CFR 48.3 for proposed revisions to approved training plans will apply.

The petitioner asserts that the alternative method will guarantee no less than the same measure of protection for all miners afforded by the existing standard.

Docket Number: M-2013-053-C.

Petitioner: White Buck Coal Company, P.O. Box 190, Leivasy, West Virginia 26676.

Mine: Grassy Creek No. 1 Mine, MSHA I.D. No. 46-08365, located in Nicholas County, West Virginia.

Regulation Affected: 30 CFR 75.1405 (Automatic couplers).

Modification Request: The petitioner requests a modification of the existing standard that requires haulage equipment to be provided with automatic couplers, which couple by impact and uncouple without the necessity of persons going between the ends of such equipment. The petitioner states that:

1. Mine cars and locomotives will not be coupled or uncoupled while in motion.

2. Tow bars, safety chains, and connecting pins of sufficient size and strength will be installed in lieu of the automatic couplers.

3. Connecting pins used to secure tow bars to mine cars or locomotives will be secured in a manner that pins will not become disengaged from mine cars or locomotives while in motion.

4. Supply cars will stay coupled to each other by means of a tow bar, safety chains, and locking pins at all times.

5. Chock blocks or other devices will be used to prevent movement of the cars during coupling and uncoupling.

6. Mine cars or locomotives will be coupled by means of tow bars with jack attachments.

7. An attached jack will support the tow bar during coupling or uncoupling.

8. Mine personnel will use a rod, provided with the jack, of sufficient length to raise or lower the tow bar and maintain a safe distance from pinch points.

9. Mine personnel will attach the draw bar to the motor by a lever with a connecting pin attached. This will be done away from pinch points between the car and locomotive.

10. Mine personnel will not place themselves between cars while the cars are being coupled or uncoupled.

11. The petitioner further states that the purposes of the existing standard are to provide protection for miners from placing themselves in pinch points or danger zones while coupling cars, and to provide protection against cars becoming uncoupled and becoming an uncontrolled hazard. The alternative method of compliance guarantees protection from these hazards by: (a) Still requiring that no coupling/uncoupling activities take place with miners in between cars, and (b) using redundant systems (tow bars, safety chains, and locking pins) to prevent runaway cars.

Within 60 days after the Proposed Decision and Order (PDO) becomes final, the Petitioner will submit proposed revisions for its approved 30 CFR part 48 training plan to the District Manager. These proposed revisions will specify initial and refresher training regarding the terms and conditions stated in the PDO.

The petitioner asserts that the proposed alternative method will at all times guarantee no less than the same measure of protection afforded by the existing standard.

Docket Number: M-2013-054-C.

Petitioner: Peabody Midwest Mining, LLC, Three Gateway Center, suite 1500, 401 Liberty Avenue, Pittsburgh, Pennsylvania 15222-1000.

Mine: Wildcat Hills Underground Mine, MSHA I.D. No. 11-03156, located in Saline County, Illinois.

Regulation Affected: 30 CFR 75.1700 (Oil and gas wells).

Modification Request: The petitioner requests a modification of the existing standard to permit an alternative method of compliance with respect to mining through oil and gas wells. The petitioner projects that a number of oil wells are within the boundaries of the mine and, based on current mine projections, most of these wells will be plugged and mined through over the productive life of the mine.

a. The petitioner proposes to use the following procedures when cleaning out and preparing oil and gas wells prior to plugging:

(1) A diligent effort will be made to clean the borehole to the original total depth. If this depth cannot be reached, the borehole will be cleaned out to a depth to permit the placement of at least 200 feet of expanding cement below the base of the lowest mineable coalbed.

(2) When cleaning the borehole, a diligent effort will be made to remove all of the casing in the borehole. If it is not possible to remove all of the casing, the casing which remains will be perforated, or ripped, at intervals spaced close enough to permit expanding cement slurry to infiltrate the annulus between the casing and the borehole wall for a distance of at least 200 feet below the base of the lowest mineable coalbed.

(3) Place a mechanical bridge plug in the well if a cleaned-out borehole produces gas. Place the mechanical bridge plug in a competent stratum at least 200 feet below the base of the lowest mineable coalbed, but above the top of the uppermost hydrocarbon-producing stratum. If it is not possible to set a mechanical bridge plug, a substantial brush plug may be used in place of the mechanical bridge plug.

(4) A suite of logs will be made consisting of a caliper survey, directional deviation survey, and log(s) suitable for determining the top and bottom of the mineable coalbeds and potential hydrocarbon-producing strata and the location for a bridge plug.

(5) If the uppermost hydrocarbon-producing stratum from the expanding cement plug is within 200 feet of the base of the lowest mineable coalbed, properly placed mechanical bridge plugs or a suitable brush plug will be used to isolate the hydrocarbon producing stratum from the expanding cement plug. Nevertheless, a minimum of 200 feet of expanding cement will be placed below the lowest mineable coalbed.

(6) The wellbore will be completely filled and circulated with a gel that inhibits any flow of gas, supports the walls of the borehole, and increases the density of the expanding cement. This gel will be pumped through open-end tubing run to a point approximately 20 feet above the bottom of the cleaned out area of the borehole or bridge plug.

b. The petitioner will use the following procedures when plugging or replugging gas or oil wells to the surface:

(1) A cement plug will be set in the wellbore by pumping expanding cement slurry down the tubing to displace the gel and fill the borehole to the surface. (As an alternative, the cement slurry may be pumped down the tubing so that the borehole is filled with Portland cement or a Portland cement-fly ash mixture from a point approximately 100 feet above the top of the lowest mineable coalbed to the surface with an expanding cement plug extending from at least 200 feet below the lowest mineable coalbed to the bottom of the Portland cement). There will be at least 200 feet of expanding cement below the base of the lowest mineable coalbed.

(2) Embed a surface casing, small quantity of steel turnings, or, other small magnetic particles in the top of the cement near the surface to serve as a permanent magnetic monument of the borehole. As an alternative, a steel rod may be driven into the ground next to the borehole.

c. The petitioner proposes to use the following procedures when using the vent pipe method for plugging oil or gas wells:

(1) Run a 4½-inch or larger vent pipe into the wellbore to a depth of 100 feet below the lowest mineable coalbed and swedged to a smaller diameter pipe, if desired, that will extend to a point approximately 20 feet above the bottom of the cleaned out area of the borehole or bridge plug.

(2) Set a cement plug in the wellbore by pumping an expanding cement slurry, Portland cement, or a Portland cement-fly ash mixture down the tubing to displace the gel so that the borehole is filled with cement. Fill the borehole and the vent pipe with expanding cement for minimum of 200 feet below the base of the lowest mineable coalbed. The top of the expanding cement will extend upward to a point approximately 100 feet above the top of the highest mineable coalbed.

(3) Evacuate all fluid from the vent pipe to facilitate testing of gases. During the evacuation of fluid, the expanding cement will not be disturbed.

(4) Protect the top of the vent pipe to prevent liquids or solids from entering the wellbore, but permit ready access to the full internal diameter of the vent pipe when necessary.

d. The petitioner proposes to use the following cut-through procedures whenever the safety barrier diameter is reduced to a distance less than the District Manager (DM) would approve pursuant the 30 CFR 75.1700 or proceeds with an intent to cut through a plugged well:

(1) Prior to reducing the safety barrier to a distance less than the DM would approve pursuant to 30 CFR 75.1700 or proceeding with an intent to cut through a plugged well, the operator will notify the DM or his/her designee.

(2) The DM or designee may conduct a conference prior to mining through any plugged well to review and approve the specific procedures for mining through the well. Representatives of the operator, the representative of miners, and the appropriate State agency will be informed within a reasonable time prior to the conference, and be given an opportunity to attend and participate. This meeting may be called by the operator.

(3) Mining in close proximity to or through a plugged well will be done on a shift approved by the DM or designee.

(4) Notify the DM or designee, representative of the miners, and the appropriate State agency in sufficient time prior to the mining through operation to have an opportunity to have representatives present.

(5) When using continuous mining equipment, install drivage sights at the last open crosscut near the place to be mined to ensure intersection of the well. The drivage sights will not be more than 50 feet from the well. If longwall mining methods are later used, install drivage sights on 10-foot centers for a distance of 50 feet in advance of the wellbore. The drivage sights will be installed in the headgate and tailgate.

(6) Firefighting equipment, including fire extinguishers, rock dust, and sufficient fire hose to reach the working face area of the mine-through will be available when either the conventional or continuous mining method is used. Locate the fire hose in the last open crosscut of the entry or room. All fire hoses will be ready for operation during the mining through.

(7) Sufficient supplies of roof support and ventilation materials will be available and located at the last open crosscut. In addition, an emergency plug and/or plugs will be available in the immediate area of the cut-through.

(8) Maintain at least the quantity of air required by the approved mine ventilation plan, but not less than 6,000 cubic feet of air per minute for scrubber equipped continuous miners or not less than 9,000 cubic feet per minute for continuous miner sections using auxiliary fans or line brattice only, to ventilate the working face during the mine-through operation. The quantity of air required by the ventilation plan, but not less than 30,000 cfm, will reach the working face of each future longwall during the mine-through operation.

(9) Check equipment for permissibility and service on the shift prior to mining through the well and maintain the water line to the tail piece with a sufficient amount of fire hose to reach the farthest point of penetration on the section.

(10) Calibrate methane monitor(s) on the continuous mining machine or the longwall shear and face on the shift prior to mining through the well.

(11) When mining is in progress, test methane levels with a hand-held methane detector at least every 10 minutes from the time that mining with the continuous mining machine is within 20 feet of the well until the well is intersected and immediately prior to mining through it or from the time that mining with longwall mining equipment is within 10 feet of the well. No individual is allowed on the return side during the actual cutting process until the mine-through has been completed and the area examined and declared safe.

(12) Keep the working place free from accumulations of coal dust and coal spillages, and place rock dust on the roof, rib, and floor to within 20 feet of the face when mining through the well when using continuous or conventional mining methods. Conduct rock dusting on longwall sections on the roof, rib, and floor up to both the headgate and tailgate gob.

(13) Deenergize all equipment when the wellbore is intersected and thoroughly examine the place and determined it safe before resuming mining. No open flame is permitted in the area until adequate ventilation has been established around the wellbore.

(14) After a well has been intersected and the working place determined safe, mining will continue inby the well a sufficient distance to permit adequate ventilation around the area of the wellbore.

(15) No person will be permitted in the area of the cut-through operation except those actually engaged in the mining operation, mine management, representative of the miners, personnel from MSHA, and personnel from the appropriate State agency.

(16) Mining will be coordinated by a responsible person as defined in 30 CFR 75.1501.

(17) A certified official will directly supervise the mining-through operation and only the certified official in charge will issue instructions concerning the mining-through operation.

(18) MSHA personnel may interrupt or halt the mining-through operation when it is necessary for the safety of the miners.

(19) A copy of the petition will be maintained at the mine and be available to the miners.

(20) The petitioner will file a plugging affidavit stating the persons who participated in the work, a description of the plugging work, and a certification by the petitioner that the well has been plugged.

(21) Unless the existing records show that an abandoned well was plugged using techniques equivalent to the proposed decision and orders terms and condition, and that information is submitted and accepted in accordance as providing the required level of safety by the DM, the well will again be cleaned, inadequate plugging materials drilled out and the well plugged in accordance with the terms and conditions of the proposed decision and order before such wells may be cut through or approached within the allowed limits. Securing and interpreting the suite of drill logs is needed to ensure that, at a minimum, the expanding cement plug extends from at least 200 feet below the lowest mineable seam through 100 feet above the highest mineable seam, unless the seams are separated by an interval greater than 300 feet, in which case, each seam may be plugged individually.

Within 60 days after this petition becomes final, the petitioner will submit proposed revisions for its approved part 48 training plan to the DM. These proposed revisions will include initial and refresher training regarding compliance with the terms and conditions stated in the proposed decision and order.

The petitioner asserts that the proposed alternative method will at all times guarantee no less than the same measure or protection afforded by the existing standard.

Dated: December 20, 2013.
George F. Triebsch,
Director, Office of Standards, Regulations and Variances.

[FR Doc. 2013-30797 Filed 12-24-13; 8:45 am]

BILLING CODE 4510-43-P